DEPARTMENT OF THE INTERIOR

Fish and Wildlife Service

Endangered and Threatened Wildlife and Plants; 5-Year Review of the Marbled Murrelet and the Northern Spotted Owl

AGENCY: Fish and Wildlife Service, Interior.

ACTION: Notice of review.

SUMMARY: We, the U.S. Fish and Wildlife Service, announce a 5-year review of the marbled murrelet (Brachyramphus marmoratus marmoratus) and the northern spotted owl (Strix occidentalis caurina) under section 4(c)(2)(A) of the Endangered Species Act of 1973, as amended (Act). The purpose of the review is to ensure that the classification of species' as threatened or endangered on the List of Endangered and Threatened Wildlife and Plants (List) are accurate.

The 5-year review is an assessment of the best scientific and commercial data available at the time of the review. Therefore, we are requesting submission of any new information (best scientific and commercial data) on the marbled murrelet and the northern spotted owl since their original listings in 1992 and 1990, respectively. If the present classification of these species is not consistent with the best scientific and commercial information available, we may, at the conclusion of this review, initiate a separate action to propose changes to the List accordingly.

DATES: To allow us adequate time to conduct this review, we must receive your information no later than June 20, 2003. However, we will continue to accept new information about any listed species at any time.

ADDRESSES: Submit information to the Field Office Supervisor, Attention Owl and Murrelet 5-year Review, Oregon Fish and Wildlife Office, 2600 SE. 98th Avenue, Suite 100, Portland, Oregon 97266. Information received in response to this notice and review results will be available for public inspection by appointment, during normal business hours, at the above address. New information regarding the northern spotted owl may be sent electronically to owl_information@r1.fws.gov. New information regarding the marbled murrelet may be sent electronically to murrelet_information@r1.fws.gov.

FOR FURTHER INFORMATION CONTACT: For the marbled murrelet, contact Lee Folliard at the above address, or at 503/231-6179. For the northern spotted owl, contact Robin Bown at the above address, or at 503/231-6179.

SUPPLEMENTARY INFORMATION:

Why Is a 5-year Review Conducted?

Section 4(c)(2)(A) of the Act requires that we conduct a review of listed species at least once every 5 years. We are then, under section 4(c)(2)(B) and the provisions of subsection (a) and (b), to determine, on the basis of such a review, whether or not any species should be removed from the List (delisted), or reclassified from endangered to threatened, or threatened to endangered. Our regulations at 50 CFR 424.21 require that we publish a notice in the Federal Register announcing those species currently under active review. This notice announces our active review of the marbled murrelet and northern spotted owl.

The 5-year review considers all new information available at the time of the review. This review will consider the best scientific and commercial data that has become available since the current listing determination or most recent status review, such as:

A. Species biology including, but not limited to, population trends, distribution, abundance, and demographics, and genetics;

B. Habitat conditions including, but not limited to, amount, distribution, and suitability;

C. Conservation measures that have been implemented that benefit the species;

D. Threat status and trends (see five factors under heading “How do we determine whether a species is endangered or threatened?”);

E. Other new information, data, or corrections including, but not limited to, taxonomic or nomenclatural changes, identification of erroneous information contained in the List, and improved analytical methods.

Why Is the Review Being Conducted for the Owl and Murrelet at This Time?

Conducting a 5-year review for these two species at this time was agreed to in connection with proposed settlement of two lawsuits, Western Council of Industrial Workers v. Secretary of the Interior, Civil No. 02-6100—AA (D. Or.) and American Forest Resource Council v. Secretary of the Interior, Civil No. 02-6087-AA (D. Or.). These settlement agreements are currently pending consideration by the District Court in Oregon. The 5-year review will consider each species' population status, and the threats to each species. The review will consider information that has become available since the original listing determination, such as: population and demographic trend data; studies of dispersal and habitat use; genetics and species competition investigations; surveys of habitat amount, quality, and distribution; adequacy of existing regulatory mechanisms; and management and conservation planning information. The 5-year review will assess: (a) Whether new information suggests that the species' population is increasing, declining, or stable; (b) whether existing threats are increasing, the same, reduced, or eliminated; (c) if there are any new threats; and (d) if new information or analysis calls into question any of the conclusions in the original listing determination as to the species' status. The review will also apply this new information to consideration of the appropriate application of the Policy Regarding the Recognition of Distinct Vertebrate Population Segments (61 FR 4722) to the listed entity, if applicable.

How Are the Marbled Murrelet and the Northern Spotted Owl Currently Listed?

The List is found in 50 CFR 17.11 (wildlife) and 17.12 (plants). However, amendments to the List through final rules are published in the Federal Register. The List is also available on our Internet site at http://endangered.fws.gov/wildlife.html#Species. In Table 1 below, we provide a summary of the listing information for the marbled murrelet and the northern spotted owl.

Table 1.—Summary of the Listing Information for the Marbled Murrelet and the Northern Spotted Owl
Common name | Scientific name | Status | Where listed | Final listing rule
Murrelet, marbled | Brachyramphus marmoratus marmoratus | Threatened | U.S.A. (CA, OR, WA) | 57 FR 45328 (01-Oct-92).
Owl, northern spotted | Strix occidentalis caurina | Threatened | All populations throughout range | 55 FR 26114 (26-Jun-90).

Definitions Related to This Notice

The following definitions are provided to assist those persons who contemplate submitting information regarding the species being reviewed:

A. Species includes any species or subspecies of fish, wildlife, or plant, and any distinct population segment of any species of vertebrate, which interbreeds when mature.

B. Distinct Population Segment is defined in our February 7, 1996, Policy Regarding the Recognition of Distinct Vertebrate Population Segments (61 FR 4722). For a population to be listed under the Act as a distinct vertebrate population segment, three elements are considered: (1) The discreteness of the population segment in relation to the remainder of the species to which it belongs; (2) the significance of the population segment to the species to which it belongs; and (3) the population segment's conservation status in relation to the Act's standards for listing (i.e., is the population segment endangered or threatened?). Distinct population segments of vertebrate species, as well as subspecies of all listed species, may be proposed for separate reclassification or for removal from the list. Any distinct population segment of a vertebrate taxon that was listed prior to the implementation of this policy will be reevaluated on a case-by-case basis as recommendations are made to change the listing status for that distinct population segment. The appropriate application of the policy will also be considered in the 5-year reviews of the status of listed species required by section 4(c)(2) of the Act.

C. Endangered means any species that is in danger of extinction throughout all or a significant portion of its range.

D. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence. In summary, our determination required under section 4(b)(1) of the Act shall be made on the basis of the best scientific and commercial data available.

What Could Happen As a Result of This Review?

If we find that there is new information concerning the marbled murrelet or northern spotted owl indicating a change in classification is warranted, we may propose new rules that could do one of the following: (a) Reclassify the species from threatened to endangered; or (b) remove the species from the List.

Any Distinct Population Segment (DPS) of a vertebrate taxon that was listed prior to implementation of the DPS policy will be reevaluated on a case-by-case basis as recommendations are made to change the listing status for that distinct population segment. The appropriate application of the DPS policy will also be considered in the 5-year reviews of the status of listed species required by section 4(c)(2) of the Act.

What Will Happen if No New Information Is Submitted for the Species Under Review?

No changes will be made to the classification of the marbled murrelet or northern spotted owl as a result of this review unless we find that there is new information indicating that such action is warranted. However, we are not limited to reviewing listed species only during a 5-year review. We may review a species at any time, and may initiate reclassification or delisting whenever the best available scientific and commercial information indicates that such action is warranted.

Public Solicitation of New Information:

We request any new information concerning the status of the northern spotted owl and marbled murrelet. New information is considered to be scientific and commercial data that has become available since the time of the species current listing determination or most recent status review. In particular, we are seeking information such as:

A. Species biology including, but not limited to, population trends, distribution, abundance, demographics, and genetics;

B. Habitat conditions including, but not limited to, amount, distribution, and suitability;

C. Conservation measures that have been implemented that benefit the species;

D. Threat status and trends (see five factors under heading “How do we determine whether a species is endangered or threatened?”);

E. Other new information, data, or corrections including, but not limited to, taxonomic or nomenclatural changes, identification of erroneous information contained in the List, and improved analytical methods.

Specifically for the owl and murrelet we are interested in new information, analyses, and/or reports for these species that summarize and interpret: demographic or population trends; genetics and competition; habitat amount, use, and distribution; and adequacy of existing regulatory mechanisms, management, and conservation planning. We request this information for all applicable land ownerships within the range of both species.

Information submitted should be supported by documentation such as maps, bibliographic references, methods used to gather and analyze the data, and/or copies of any pertinent publications, reports, or letters by knowledgeable sources.

Authority

This document is published under the authority of the Endangered Species Act (16 U.S.C. 1531 et seq.).

Dated: April 2, 2003.
Steve Williams,
Director, Fish and Wildlife Service.

[FR Doc. 03-9671 Filed 4-18-03; 8:45 am]

BILLING CODE 4310-55-P